Title 3—

The President

Proclamation 7911 of June 16, 2005

Father's Day, 2005

By the President of the United States of America

A Proclamation

Being a father is a great responsibility and a great joy. From the moment their children are born, fathers face the daily tasks of being mentors, protectors, providers, and friends. Fathers take great pride in watching their children take their first steps, learn to read, and attend their first day of school. On Father's Day, our Nation honors fathers across America, and we express our deep gratitude for their selfless love and sacrifices.

Caring, decent, and hardworking fathers give much of themselves. By offering unconditional love and providing guidance and discipline, a father is a source of stability and one of the most important influences on his children. A father's example helps shape the character and values that his children will carry with them into adulthood, and the lessons he teaches remain with them for a lifetime. By encouraging his sons and daughters to set high standards, work hard, and make good decisions, a father shows his children that they can meet life's challenges and be good citizens.

Responsible fatherhood is essential to a compassionate society in which all children are surrounded by love and taught the importance of respect, honesty, and integrity. My Administration commends all those who are working to strengthen the bonds between fathers and their children.

On Father's Day and all year long, we honor our Nation's fathers and express our love and appreciation for them. We also honor the many proud fathers who are serving our country on the front lines of freedom. We are grateful for their service and sacrifice, and we pray for them and their families. These men have answered a great call, and they set an example of duty and honor for all Americans.

NOW, THEREFORE, I, GEORGE W. BUSH, President of the United States of America, in accordance with a joint resolution of the Congress approved April 24, 1972, as amended (36 U.S.C. 109), do hereby proclaim June 19, 2005, as Father's Day. I direct the appropriate officials of the Government to display the flag of the United States on all Government buildings on this day. I also call upon State and local governments and citizens to observe this day with appropriate programs, ceremonies, and activities.

IN WITNESS WHEREOF, I have hereunto set my hand this sixteenth day of June, in the year of our Lord two thousand five, and of the Independence of the United States of America the two hundred and twenty-ninth.

B

[FR Doc. 05-12283

Filed 6-17-05; 10:40 am]

Billing code 3195-01-P